DEPARTMENT OF JUSTICE

Notice of Extension of Public Comment Period

On October 6, 2005, a proposed consent decree in United States v. General Electric Company, Civil Action No. 50-cv-1270, was lodged with the United States District Court for the Northern District of New York. The proposed consent decree will settle the United States' claims under the Comprehensive Response, Compensation and Liability Act, 42 U.S.C. 9601, et seq., relating to the release of polychlorinated biphenyls into the Hudson River. Notice of the lodging of the proposed Consent Decree appeared in 70 FR 59771 (October 13, 2005).

Notice is hereby given that the Department of Justice has extended for thirty (30) days the length of the period during which it will receive comments relating to the proposed consent decree. Therefore, the Department of Justice will now receive comments through December 14, 2005. Comments should be addressed to the Assistant Attorney General of the Environment and Natural Resources Division, Department of Justice, Washington, DC 20530, and should refer to United States v. General Electric Company, Civil Action No. 05-cv-1270, D.J. Ref. 90-11-2-529. Directions for examining and/or obtaining a copy of the proposed consent decree may be found in the original Federal Register notice cited above.

Maureen Katz,
Assistant Chief, Environmental Enforcement Section, Environment and Natural Resources Division.

[FR Doc. 05-23208 Filed 11-22-05; 8:45 am]

BILLING CODE 4410-15-M